DEPARTMENT OF HEALTH AND HUMAN SERVICES

Indian Health Service

Office of Clinical and Preventive Services; Elder Care Initiative Long Term Care Grant Program

Announcement Type: New Discretionary .

Funding Announcement Number: HHS-2006-IHS-IWHD-0001.

Catalog of Federal Domestic Assistance Number: 93.933.

Key Dates:

Letter of Intent Deadline: May 12, 2006.

Application Receipt Deadline: June 5, 2006.

Application Review Dates: June 19-30, 2006.

Application Notification: July 10-14, 2006.

Anticipated Award Start Date: August 1, 2006.

I. Funding Opportunity Description

The Indian Health Service (IHS) announces competitive grant applications for the Elder Care Initiative Long Term Care Grant Program (ECILTC). This program is authorized under section 301(a), Public Health Service Act, as amended, Snyder Act, 42 Stat. 208; Public Law 94-482; and Indian Health Care Improvement Act, 25 U.S.C. 1653(c). This program is described at 93.933 in the Catalog of Federal Domestic Assistance.

Approximately $650,000 will be available through the ECILTC grant program to support planning and implementation of sustainable long term care (LTC) services for American Indians and Alaska Native (AI/AN) elders.

The AI/AN elder population is growing rapidly and the AI/AN population as a whole is aging. The prevalence of chronic disease in this population continues to increase, contributing to a frail elder population with increasing long-term care needs.

LTC is best understood as an array of social and health care services that support an individual who has needs for assistance in activities of daily living over a prolonged period. LTC supports elders and their families with medical, personal, and social services delivered in a variety of settings to support quality of life, maximum function, and dignity. While families continue to be the backbone of LTC for AI/AN elders, there is well documented need to support this care with formal services. The way these services and systems of care are developed and implemented can have a profound impact on the cultural and spiritual health of the community.

Home and community-based services (HCBS) have the potential for meeting the needs of the vast majority of elders requiring LTC services, supporting the key roles of the family in the care of the elder and the elder in the care of the family and community. A LTC system with a foundation in home and community-based services will also comply with the U.S. Supreme Court interpretation of the Americans with Disabilities Act (ADA) in Olmstead v. L.C. This ruling obligates States and localities to provide care for persons with disability “in the most integrated setting appropriate to the needs of qualified individuals with disabilities.” (28 CFR 35.130(d)). An efficient and effective LTC system would make use of all available resources, integrating and coordinating services to assist families in the care of their elders.

The primary focus for planning and program development for AI/AN LTC is at the Tribal and urban community level. Tribes and communities have very different histories, capabilities, and resources with regard to LTC program development. Each Tribe or community will have different priorities in building LTC infrastructure. The development of LTC services should be well grounded in an assessment of need based on population demographics and rates of functional impairment. LTC services should be acceptable to elders and their families and consistent with community values in their implementation. The services should be a part of an overall vision and plan for an LTC system to support elders and their families.

There are a number of elements (Tribal sovereignty and the government-to-government relationship, the unique funding structure of Indian health, and the importance of the cultural context) that distinguish AI/AN LTC. Tribes and AI/AN organizations have found it useful to look both inside and outside of the Indian health system for LTC strategies and models.

The planning and design of LTC services must identify the revenue source(s) that will support the delivery of care. Finding resources for LTC services presents a formidable challenge. Funds appropriated through the IHS (whether direct service or Tribal) can provide services which are part of a LTC system, but do not provide for a comprehensive set of LTC services. Further, IHS funds are intended for health and medical care and cannot support programs which are primarily custodial in nature (e.g. assisted living, board and care) or those designed to serve non-IHS beneficiaries. Programs funded through the Administration on Aging American Indian, Alaska Native and Native Hawaiian Program (e.g. Title VI A and Title VI C Family Caregiver Support Program) have been key elements in the LTC infrastructure in AI/AN communities. Additional Older American Act resources may be available through State Units on Aging and Area Agencies on Aging. Other resources are available to provide LTC services on a reimbursable basis for eligible AI/AN elders. The majority of formal LTC services in this country are funded by reimbursements from state Medicaid and Home and community-based services programs. The Veterans Administration may be a source of reimbursement for LTC services for eligible AI/AN veterans. Federal housing programs are a potential resource in developing the housing component of the LTC infrastructure. Each of these resources has unique eligibility requirements. Development of reimbursement-based LTC services often requires an ongoing investment of funds to support delivery of services during the initial period of client recruitment, start-up of services, and the receipt of reimbursement for those services.

This grant program is designed to provide support for the development of AI/AN LTC, with funding for either assessment/planning or program implementation. LTC services developed with support of this grant program must be those which the IHS has the authority to provide, either directly or through funding agreement, and must be designed to serve IHS beneficiaries. Most Tribes and urban communities are building toward their ideal LTC system incrementally, adding new or integrating existing services over time. The goal of this grant program is to support Tribes, Tribal consortia, and urban Indian health programs as they build LTC systems and services that meet the needs of their elders and that keep elders engaged and involved in the lives of their families and communities.

II. Award Information

Type of Awards: Grant.

Estimated Funds Available: The total amount identified for fiscal year (FY) 2006 is $650,000. The awards are for 24 months, with a one year non-competitive continuation for the second year funding. The continuation awards under this announcement are subject to a satisfactory performance and availability of funds.

Anticipated Number of Awards: An estimated of 9-12 awards.

Project Period: 24 months.

Award Amount: $50,000 per year (Project Type Category I1—Assessment and Planning). $75,000 per year (Project Type Category II2—Implementation).

The Long Term Care Grant Program consists of two Project Types Project Types with different funding Levels:

1. Project Type Category I—Assessment and Planning (up to $50,000 per year for 2 years)

Assessment of need for LTC services and of the type and structure of services that will best serve the elders of the Tribe or community. The development of a comprehensive plan or vision to meet the LTC needs of the Tribe or community and of a plan for implementation of one or more specific services, including detailed planning for sustainability. At the end of the funding cycle the applicant should be well prepared for successful implementation of one or more sustainable LTC services. The end result of this project should prepare the applicant for a Category II grant application (see below).

2. Project Type Category II—Implementation (up to $75,000 per year for 2 years), including:

Implementation of a service or group of services adding capacity to the LTC system of the applicant Tribe or organization. The implementation plan should be based on a comprehensive assessment and plan, including a business plan. The services should be designed to be self-sustaining at the end of the project period.

The application must contain only one Project Type. Applications that address more than one Project Type will be ineligible for review and will be returned to the applicant. The maximum funding level includes both direct and indirect costs. Applications with budgets exceeding the maximum funding level or project period identified for a Project Type will not be reviewed.

Year 2 continuation awards within the project period will be based on completion of a non-competing continuation application demonstrating on satisfactory performance and on availability of funding, and a non-competing continuation application must show satisfactory performance in order to receive future funding needs of the IHS.

III. Eligibility Information

1. Eligible Applicants

The AI/AN applicant must be one of the following:

A. A Federally-recognized Indian Tribe; or

B. Tribal Organization as defined by 25 U.S.C. 1603(e); or

C. Urban Indian Organizations as defined by 25 U.S.C. 1603(h).

Applicants must provide proof of non-profit status with the application.

2. Cost Sharing or Matching

The IHS Office of Clinical and Preventive Services does not require matching funds or cost sharing.

3. Other Requirements

The following documentation is required (if applicable):

A. Tribal Resolution—A resolution of the Indian Tribe served by the project must accompany the application submission. An Indian Tribe that is proposing a project affecting another Indian Tribe must include resolutions from all affected Tribes to be served. Applications by Tribal organizations will not require a specific Tribal resolution if the current Tribal resolution(s) under which they operate would encompass the proposed grant activities. Draft resolutions are acceptable in lieu of an official resolution. However, an official signed Tribal resolution or additional documentation must be received by the Division of Grants Operations prior to the beginning of the application review date, June 19, 2006. If an official signed resolution is not received by June 19, the application will be considered incomplete, ineligible for review, and it will be returned to the applicant without consideration. Ensure that all information is received by the IHS by obtaining confirmation of delivery (i.e., FedEx tracking, postal return receipt, etc.).

B. Documentation of Consortium Participation—If an Indian Tribe submitting an application is a member of a consortium that is also submitting an application under this announcement, the Tribe must:

1. Identify the Consortium.

2. Indicate that the Consortium intends to submit a LTC Grant Program application.

3. Demonstrate that the Tribe's application does not duplicate or overlap any objectives of the consortium's application.

If a Consortium is submitting an application it must:

1. Identify all of the consortium member Tribes.

2. Identify if any of the member Tribes intend to submit a LTC Grant application of their own.

3. Demonstrate that the consortium's application does not duplicate or overlap any objectives of the other consortium members who may be submitting their own LTC Grant Program application.

Applications received from a Consortium and member Tribe(s) of that Consortium that do not meet the requirements above will be considered ineligible for review.

Tribes, Tribal Consortia, and AI/AN programs receiving funding to develop LTC service(s) through the IHS Elder Health Care Initiative Grants program (FY2003-2005) must show substantial completion of the currently funded project(s). The goals and objectives of this application must be different than those of the currently funded project (e.g., an applicant with current funding to implement an Adult Day Health Program now applies for funding to implement a personal care program).

Please refer to Sections IV 56. “Funding Restrictions” and V 3. “Review Section Process” for more information regarding other application submission information and/or requirements.

C. The Letter of Intent (LOI) is required for eligibility. The LOI will be used only as a responsiveness criterion and will not be reviewed.

IV. Application and Submission Information

1. Address to Request Application Package

Applicant package may be found in Grants.gov or at: http://www.ihs.gov/MedicalPrograms/ElderCare/index.asp.

2. Content and Form of Application Submission

A LOI to apply is required and must be postmarked no later than May 12, 2006. No grant application will be reviewed unless a LOI has been received. The LOI must contain:

A. The name of the applying organization.

B. The individual who is responsible for correspondence regarding the application, and contact information. Please indicate whether fax or e-mail notification of receipt of LOI is preferred, and provide e-mail address and/or fax number.

C. The name of all member Tribes if the applicant is a Tribal Consortium.

D. Whether the intent is to apply for a Project Type Category I or Project Type Category II grant.

E. Applicants will be notified by fax or e-mail that their LOI has been received upon receipt.

F. A LOI is a mandatory but non-binding request for information that will assist in planning both the review and post award phase. There is no penalty for submitting a LOI and not proceeding with the grant application.

G. Information regarding the LOI to Ms. Platero and may be directed to:

Program Contact: Ms. Orie Platero, Office of Clinical and Preventive Services (OCPS), Indian Health Service, 801 Thompson Ave., TMP Suite 326, Rockville, MD 20852, Phone (301) 443-2522, Fax: (301) 594-6213.

Grants Contact: Ms. Martha Redhouse, Grants Management Specialist, Indian Health Service, 801 Thompson Ave., TMP Suite 360, Rockville, MD 20852, Phone (301) 443-5204, Fax: (301) 443-9602.

H. Information regarding the electronic process may be directed to Michelle G. Bulls, at (301) 443-6528.

Content and Form of Application Submission if paper submission approval was obtained:

A. Be single spaced.

B. Be typewritten.

C. Have consecutively numbered pages.

D. If unable to submit electronically, submit using a black type not smaller than 12 characters per one inch.

(1) Submit on one side only of standard size 8½″ x 11″ paper.

(2) Do not tab, glue, or place in a plastic holder.

Use black type not smaller than 12 characters per one inch.

E. Contain a narrative that does not exceed 7 typed pages that includes the other submission requirements below. The 7 page narrative does not include the work plan, standard forms, Tribal resolutions (if necessary), table of contents, budget line items, budget justifications, narratives, and/or other appendix items.

Public Policy Requirements: All Federal-wide public policies apply to IHS grants with the exception of Lobbying and Discrimination.

If paper submission approval was obtained, include in the application the following documents in the order presented:

A. Letter of Intent must be received by May 12, 2006.

B. Application Receipt Record, IHS-815-1A (Rev. 3/05), if applicable.

C. FY 2006 Elder Care Initiative LTC Grant Application Checklist.

D. FY 2006 General Information Page.

E. Tribal Resolution (final signed or draft unsigned) or 501(c)(3) Certification.

F. Documentation of Consortium Participation (if applicable).

G. Standard Form 424, Application for Federal Assistance.

H. Standard Form 424A, Budget Information—Non-Construction Programs.

I. Standard Form 424B, Assurances—Non-Construction Programs (front and back). The application shall contain assurances to the Secretary that the applicant will comply with program regulations, 42 CFR Part 36 Subpart H.

J. Certifications.

K. PHS-5161 Checklist.

L. Disclosure of Lobbying Activities.

M. Project Abstract (may not exceed one typewritten page) which should present a summary view of “who-what-when-where-how-cost” to determine acceptability for review.

N. Table of Contents with corresponding numbered pages.

O. Project Narrative (not to exceed 7-14 typewritten pages—should address first year only if project is a multi-year request) that includes the following:

(1) Introduction and Need for Assistance.

(2) Work Plan.

(3) Project Evaluation.

(4) Organizational Capabilities and Qualifications.

(5) Categorical Budget line items and Budget Justification.

P. Multi-year Objectives and Work plan with Multi-year Categorical Budget and Multi-year.

Q. Appendix items.

Public Policy Requirements: All Federal-wide public policies apply to IHS grants with the exception of Lobbying and Discrimination.

3. Submission Dates and Times

Applications must be submitted electronically through Grants.gov by close of business Monday, June 5, 5 p.m. ET. If technical issues arise and the applicant is unable to successfully complete the electronic application process, the applicant must contact Michelle G. Bulls, Grants Policy Staff at (301) 443-6528 fifteen days prior to the application deadline and advise them of the difficulties you are having submitting your application on line. The Grants Policy staff will determine whether you may submit a paper application (original and 2 copies). Please note, the grantee must obtain prior approval, in writing, from the Grants Policy staff allowing the paper submission. Applications not submitted through Grants.gov, without the necessary waiver, may be returned to the applicant without review or consideration.

Late applications will be returned to the applicant without review or consideration.

A hard copy or faxed LOI must be received on or before Friday, May 12, 2006. This should be no more than 2 pages.

4. Intergovernmental Review

Executive Order 12372 requiring intergovernmental review is not applicable to this program.

5. Funding Restrictions

A. Pre-award costs are not allowable pending prior approval from the awarding agency. However, in accordance with 45 CFR part 74 all pre-award costs are incurred at the recipient's risk. The awarding office is under no obligation to reimburse such costs if for any reason the applicant does not receive an award or if the award to the recipient is less than anticipated.

B. The available funds are inclusive of direct and indirect costs.

C. Only one grant/cooperative agreement will be awarded per applicant.

D. Ineligible project activities:

These funds may not be used to support already existing recurring operational programs or to replace existing public and private resources. The inclusion of the following projects or activities in an application will render the application ineligible and the application will be returned to the applicant:

(1) Projects related to water, sanitation, and waste management.

(2) Projects that seek funding in two Project Types funding categories.

E. An otherwise eligible applicant who is a current recipient of IHS Elder Health Care Initiative grant funding (FY2003-2005) cannot be awarded a new, renewal or competing continuation grant for any of the following reasons:

(1) The current project is not progressing in a satisfactory manner.

(2) The current project is not in compliance with program and financial reporting requirements.

(3) There is overlap between the specific work plan and objectives outlined in the application with those in the currently funded project.

(4) If the funding period of the new award overlaps with current support, the grantee must relinquish or reduce funding on the current award. For additional information or clarification, please contact Ms. Michelle Bulls, Grants Policy Officer at (301) 443-6528.

F. Delinquent Federal Debts. No award shall be made to an applicant who has an outstanding delinquent Federal debt until either:

(1) The delinquent account is paid in full; or

(2) A negotiated repayment schedule is established and at least one payment is received.

6. Other Submission Requirements

Electronic Transmission—The preferred method for receipt of applications is electronic submission through Grants.gov. However, should any technical problems arise regarding the submission, please contact Grants.gov Customer Support at (800) 518-4726 or support@grants.gov. The Contact Center hours of operation are Monday-Friday from 7 a.m. to 9 p.m. (Eastern Standard Time). If you require additional assistance please contact IHS Grants Policy staff at (301) 443-6528 at least fifteen days prior to the application deadline. To submit an application electronically, please use the http://www.Grants.gov Web site. Download a copy of the application package on the Grants.gov website, complete it off-line and then upload and submit the application via the Grants.gov Web site. You may not e-mail an electronic copy of a grant application.

Please note the following:

A. Under the new IHS requirements, paper applications are not the preferred method. However, if you have technical problems submitting your application on-line, please contact Grants.gov Customer Support at: http://www.grants.gov/CustomerSupport. If you are still unable to successfully submit your application online, please contact Grants Policy staff fifteen days prior to the application deadline and advise them of the difficulties you are having submitting your application online. At that time, it will be determined whether you may submit a paper application. At that point you have to download the application package from Grants.gov, and send it directly to the Division of Grants Operations, 801 Thompson Avenue, TMP 360, Rockville, MD 20852 by the June 5, 2006 due date.

B. When you enter the Grants.gov Web site, you will find information about submitting an application electronically through the Web site, as well as the hours of operation. We strongly recommend that applicants not wait until the deadline date to begin the application process through the Grants.gov Web site.

C. To use Grants.gov, you, as the applicant, must have a DUNS number and register with the Central Contractor Registry (CCR). You should allow a minimum of five days to complete CCR registration. See below on how to apply.

D. You must submit all documents electronically, including all information typically included on the SF-424 and all necessary assurances and certifications.

E. Your application must comply with any page limitation requirements described in the program announcement.

F. After you electronically submit your application, you will receive an automatic acknowledgment from Grants.gov that contains a Grants.gov tracking number. The IHS DGO will retrieve your application from Grants.gov Web site.

G. You may access the electronic application for this program on http://www.Grants.gov.

H. You must search for the downloadable application package by using the basic search engine in Grants.gov and inserting the CFDA number, 93.933 that is used for this announcement.

E-mail applications will not be accepted under this announcement.

The required Letter of Intent (LOI) must be faxed or postmarked on or before May 12, 2006 to: Ms. Orie Platero, Office of Clinical and Preventive Services (OCPS), Indian Health Service, 801 Thompson Ave., TMP Suite 326, Rockville, MD 20852. Fax (301) 594-6213.

DUNS Number

Applicants are required to have a Dun and Bradstreet (DUNS) number to apply for a grant or cooperative agreement from the Federal Government. The DUNS number is a nine-digit identification number, which uniquely identifies business entities. Obtaining a DUNS number is easy and there is no charge. To obtain a DUNS number, access http://www.dunandbradstreet.com or call (866) 705-5711. Interested parties may wish to obtain their DUNS number by phone to expedite the process.

Applications submitted electronically must also be registered with the Central Contractor Registry (CCR). A DUNS number is required before CCR registration can be completed. Many organizations may already have a DUNS number. Please use the number listed above to investigate whether or not your organization has a DUNS number. Registration with the CCR is free of charge.

Applicants may register by calling (888) 227-2423. Please review and complete the CCR “Registration Worksheet” located on http://www.grants.gov/CCRRegister.

More detailed information regarding these registration processes can be found at http://www.grants.gov.

V. Application Review Information

Note: Only those programs or services which the IHS is authorized to provide, either directly or through funding agreement, can be supported by this grant program. Specifically, those services which are primarily housing or custodial in nature are not eligible for support (e.g. assisted living facility, board and care, or nursing home which is primarily custodial in nature). Supportive services delivered in those facilities, with the intent to promote the health and wellness of elders, are eligible for funding. Programs and services developed with support of this grant program must be designed for the benefit of IHS beneficiaries.

1. Criteria

The instructions for preparing the application narrative also constitute the evaluation criteria for reviewing and scoring the application. Weights assigned to each section are noted in parentheses. The narrative should include only the first year of activities; information for multi-year projects should be included as an appendix (see “Multi-year Project Requirements” at the end of this section for more information). The narrative section should be written in a manner that is clear to outside reviewers unfamiliar with prior related activities of the applicant. It should be well organized, succinct, and contain all information necessary for reviewers to understand the project fully.

A. Project Type Category I—Assessment and Planning Criteria. Introduction and Need for Assistance (30 points).

Provide an understanding of the LTC needs of the elderly in the Tribe or service area and identify the additional information needed for planning. The applicant should use the best data available, understanding that, for most programs, many of these data elements will not be available or be poor in quality and that improved data for future planning will be an outcome of this grant-funded project. Data that is not available should be noted as such and addressed in the B. Work Plan (below). Identify all information sources.

(1) Currently available information for use in planning and service development:

a. Currently available information regarding population and need for services;

i. Demographics of the population and assessment of LTC needs on a population basis;

ii. Geographic and social factors, including availability of caregivers;

iii. Cultural and religious values regarding care of the elder for the population(s) to be served, and;

iv. Elder preferences for type, structure, and setting of services.

b. Currently available information regarding existing services and resources for long term care:

i. Availability and organization of existing aging and LTC services, including services available to Tribal or community members provided by non-Tribal/non-AI/AN organization programs;

ii. Availability and organization of health services for the elderly, including Native healing systems;

iii. Assessment of the capacity of available LTC services to support care provided “in the most integrated setting appropriate to the needs of qualified individuals with disabilities” (Olmstead vs. L.C), and;

iv. Assessment of caregiver workforce.

c. Funding streams currently paying for LTC services.

d. Current collaborations in program development or service delivery.

(2) Current vision for LTC system/services and priorities for development.

(3) Elder care assessment and planning activities within the past 10 years.

a. Funding sources.

b. Dates of funding.

c. Summary of project accomplishments.

d. How do they relate to the current proposal?

Copies of reports will not be accepted.

(4) Unmet need for LTC services.

(5) Identify the information needed for planning and service implementation which is not currently available.

(6) Summarize relevant national, IHS, or state standards, laws and regulations and Tribal codes.

B. Work Plan (40 points)

This section should demonstrate the soundness and effectiveness of the applicant's proposal. The work plan should be designed to produce as an end product the readiness to develop LTC service(s) and should include all information not already available. The following is an, for example of information to be developed through the workplan:

• Demographic assessment of the population and assessment of LTC needs on a population basis.

➢ Population distribution. Number of elderly of different age and gender groups in the population.

➢ Rates of functional impairment and numbers of elders with need for assistance in activities of daily living in adequate detail to project need for services.

• Assessment of relevant geographic and social factors, including availability of caregivers.

• Assessment of cultural and religious values regarding care of the elder for the population(s) to be served.

• Assessment of elder preferences for type, structure, and setting of services.

• Evaluation of existing services and resources for LTC, including:

➢ Availability and organization of existing aging and LTC services, including those services available to Tribal or community members provided by organizations or programs that are not Tribal or AI/AN organizations.

➢ Availability and organization of health services for the elderly, including Native healing systems.

➢ Capacity of existing LTC services to support care provided “in the most integrated setting appropriate to the needs of qualified individuals with disabilities” (Olmstead vs. L.C).

• Assessment of caregiver workforce needs, including:

➢ Availability of potential caregivers (formal and informal).

➢ Training needs for formal and informal caregivers.

➢ Identification of potential funding sources for LTC services.

➢ Program development.

➢ Cost of ongoing service delivery.

➢ Identification of potential partners.

➢ Development of a comprehensive vision for LTC system/services based on the information above, with priorities for implementation and relevant feasibility/business plans. (For an example of the information needed to demonstrates readiness to develop LTC service(s), see A INTRODUCTION AND NEED FOR ASSISTANCE in the Project TypeCategory II Implementation criteria).

Note that attendance and presentation at the annual AI/AN LTC Conference is a requirement of the grant and should be included as an activity in the work plan.

(1) State the proposed assessment or planning process.

(2) List the objectives clearly.

a. Identify the data elements needed.

b. Indicate the function of each data element in the plan.

(3) Describe the approach to the project.

a. Tasks.

b. Resources needed to implement and complete the project.

c. Timeline.

d. Specialized technical resources for data collection or analysis.

e. Training needs.

(4) Include in work plan attendance and presentation at the annual AI/AN LTC Conference.

(5) Identify the final product of the assessment/plan and the strategy for dissemination.

(6) Submit a work plan in the appendix which includes the following information:

a. Action steps on a time line for implementation of the work plan.

b. Identify who will perform the action steps.

c. Identify who will supervise the action steps.

d. Identify who will accept and/or approve work products at the end of the proposed project.

e. Include any additional training that will take place during the proposed project, who will conduct the training and who will be attending the training.

f. If consultants or contractors will be used during the proposed project, please include the following information in their position description and scope of work (or note if consultants/contractors will not be used):

i. Educational requirements.

ii. Desired qualifications and work experience.

iii. Expected work products.

iv. Contractor's supervisor.

v. Resume and letter of commitment in the appendix if a potential consultant/contractor has already been identified.

C. Project Evaluation (10 points).

This Section should show how progress on this project will be accessed and how the success of this project will be judged.

(1) Specifically list and describe the outcomes by which this project will be evaluated.

(2) Identify the evaluator and/or the individual with responsibility for the evaluation (need not be an outside evaluator).

(3) Each proposed project objective and task of the work plan should be able to be evaluated and the evaluation activities should appear on the work plan.

D. Organizational Capabilities And Qualifications (10 points).

This section outlines the broader capacity of the Tribe, Tribal organization, or Urban health program to complete the project outlined in the work plan. It includes the identification of personnel responsible for completing tasks and chain of responsibility for successful completion of the project outlined in the work plan.

(1) Describe the organizational structure of the Tribe/Tribal organization beyond health care activities.

(2) If management systems are already in place, simply note it. (A copy of the 25 CFR part 900, subpart F, is available in the ECILTC application package.)

(3) Describe the ability of the organization to manage the proposed project. Include information regarding similarly sized projects in scope and financial assistance as well as other grants and projects successfully completed.

(4) Describe what equipment (i.e., fax machine, phone, computer, etc.) and facility space (i.e., office space) will be available for use during the proposed project. Include information about any equipment not currently available that will be purchased through the grant.

(5) List key personnel who will work on the project.

a. Identify existing personnel and new program staff to be hired.

b. In the appendix, include position descriptions and resumes for all key personnel. Position descriptions should clearly describe each position and duties, indicating desired qualifications experience, requirements related to the proposed project and how they will be supervised. Resumes must indicate that the proposed staff member is qualified to carry out the proposed project activities and who will determine if the work of a contractor is acceptable.

c. Note who will be writing the progress report.

d. If a position is to be filled, indicate that information on the proposed position description.

e. If the project requires additional personnel beyond those covered by the grant funds, (i.e., IT support, volunteers, interviewers, etc.), note these and address how these positions will be filled and, if funds are required, the source of these funds.

f. If personnel are to be only partially funded by this grant, indicate the percentage of time to be allocated to this project and identify the resources used to fund the remainder of the individual's salary.

E. Categorical Budget and Budget Justification (10 points).

This section should provide a clear estimate of the project program costs and justification for expenses for the entire grant period. The budget and budget justification should be consistent with the tasks identified in the work plan.

(1) Categorical budget (Form SF 424A, Budget Information Non-Construction Programs) completing each of the budget periods requested.

(2) Narrative justification for all costs, explaining why each line item is necessary or relevant to the proposed project. Include sufficient details to facilitate the determination of cost allowability.

(3) Indication of any special start-up costs.

(4) Budget justification should include a brief program narrative for the second year.

(5) If indirect costs are claimed, indicate and apply the current negotiated rate to the budget. Include a copy of the rate agreement in the appendix.

Project Type Category II Program Implementation Criteria

A. Introduction and Need for Assistance (35 points).

Provide an understanding of current need for and availability of long term care services for the elderly in the Tribe or service area. Demonstrate the necessary assessment and planning to successfully implement new service(s) and show that the services fit within a comprehensive vision or plan for elder care. If significant elements listed below are not available, programs should consider applying for Category I funding to support the assessment and planning activities necessary for successful program development.

(1) Demographic assessment of the population and assessment of LTC needs on a population basis.

a. Population distribution. Number of elderly of different age and gender groups in the population.

b. Rates of functional impairment and numbers of elders with need for assistance in activities in daily living with adequate detail to project need for services.

(2) Geographic and social factors that affect access to services and availability of caregivers.

a. Rural vs. urban; population density.

b. Family structure and organization.

(3) Assessment of cultural and religious values regarding care of the elder for the population(s) to be served.

(4) Assessment of elder preferences for type, structure, and setting of services.

(5) Evaluation of existing services and resources for LTC.

a. Availability and organization of existing aging and LTC services. Include services available to Tribal or community members provided by programs or organizations that are not Tribal or AI/AN organizations.

b. Availability and organization of health services for the elderly, including Native healing systems.

c. Capacity of existing LTC services to support care provided “in the most integrated setting appropriate to the needs of qualified individuals with disabilities” (Olmstead vs. L.C.).

(6) Assessment of caregiver workforce.

a. Availability of potential caregivers (formal and informal).

b. Training resources for formal and informal caregivers.

(7) Identification of potential resources for new LTC service.

a. Funding for program development.

b. Funding for ongoing service delivery.

c. Potential partners in program development.

(8) Relevant Federal, IHS, Tribal and/or state standards, laws and regulations and codes and relevant licensure or certification requirements.

(9) A comprehensive vision or plan for LTC system/services which incorporates the information above and identifies priorities for implementation.

(10) Unmet need for LTC services.

B. Work Plan (35 points).

This section should demonstrate the soundness and effectiveness of the applicant's proposal. This includes both the work plan for program implementation and the underlying plan or strategy for sustainability of the service(s) past the point of grant support. Note that attendance and presentation at the annual AI/AN LTC Conference is a requirement of the grant and should be included as an activity in the work plan.

(1) Identify the LTC service(s) to be implemented and show how it:

a. Integrates with existing LTC and health services.

b. Is Show how it is consistent with the results of the assessment/planning process described above (Introduction and Need for Assistance).

(2) Summarize the business plan or plan for self-sufficiency and sustainability, including:

a. Funding stream(s) to support ongoing services.

b. Clearly indicate whether the program will be self-supporting (and if so, when) or not. If not self-supporting, what will be the source of additional revenue for services?

c. Time line with projections for client recruitment, expected revenue and shortfalls, resources for funds needed to bridge between onset of services and collection of reimbursement, etc.

d. Licensure or certification requirements.

e. If Tribal revenue is expected to pay in part or in whole for services, indicate this. A letter from the Tribal Council or administration indicating that these funds have been budgeted for this purpose should be included in the appendix.

(3) Describe the approach to implementation.

a. Tasks.

b. Resources needed to implement and complete the project.

c. Time line for implementation.

d. Specialized technical resources.

e. Training needs.

i. Include in work plan attendance and presentation at the annual AI/AN LTC Conference.

f. Consultation needs (if any).

(4) Include a detailed work plan in the appendix, containing the following information:

a. Action steps on a time line for implementation of the work plan.

b. Identify who will perform the action steps.

c. Identify who will supervise the action steps.

d. Identify who will accept and/or approve work products at the end of the proposed project.

e. Include any additional training that will take place during the proposed project,

f. If consultants or contractors will be used during the proposed project, please include the following information in their position description and scope of work (or note if consultants/contractors will not be used):

i. Educational requirements.

ii. Desired qualifications and work experience.

iii. Expected work products.

iv. Who will supervise the contractor.

v. If a potential consultant/contractor has already been identified, please include a resume and letter of commitment in the appendix.

(5) Include a detailed business plan in the appendix, containing the following information:

a. Time line with detailed expense and revenue projections.

b. Time line with client recruitment projections.

c. Time line with licensure or certification requirements and tasks.

d. Identification of shortfall funding during implementation with documentation of the availability of budgeted funds to support the program until it is self-sustaining (if applicable).

C. Project Evaluation (10 points).

This section should show how progress on this project will be assessed and how the success of this project will be judged.

(1) Specifically list and describe the outcomes by which this project will be evaluated.

(2) Identify the evaluator and/or the individual with responsibility for the evaluation (need not be an outside evaluator).

(3) Each proposed project objective and task of the work plan should be able to be evaluated and the evaluation activities should appear on the work plan.

D. Organizational Capabilities and Qualifications (10 points).

This section outlines the broader capacity of the Tribe, Tribal organization, or urban health program to complete the project outlined in the work plan. It includes the identification of personnel responsible for completing tasks and chain of responsibility for successful completion of the project outlined in the workplan.

(1) Describe the organizational structure of the Tribe/Tribal organization beyond health care activities.

(2) If management systems are already in place, simply note it. (A copy of the 25 CFR part 900, subpart F, is available in the ECILTC application package.)

(3) Describe the ability of the organization to manage the proposed project. Include information regarding similarly sized projects in scope and financial assistance as well as other grants and projects successfully completed.

(4) Describe what equipment (i.e., fax machine, phone, computer, etc.) and facility space (i.e., office space) will be available for use during the proposed project. Include information about any equipment not currently available that will be purchased through the grant.

(5) List key personnel who will work on the project.

a. Identify existing personnel and new program staff to be hired.

b. In the appendix, include position descriptions and resumes for all key personnel. Position descriptions should clearly describe each position and duties, indicating desired qualifications experience, requirements related to the proposed project and how they will be supervised. Resumes must indicate that the proposed staff member is qualified to carry out the proposed project activities and who will determine if the work of a contractor is acceptable.

c. Note who will be writing the progress report.

d. If a position is to be filled, indicate that information on the proposed position description.

e. If the project requires additional personnel beyond those covered by the grant funds, (i.e., IT support, volunteers, interviewers, etc.), note these and address how these positions will be filled and, if funds are required, the source of these funds.

f. If personnel are to be only partially funded by this grant, indicate the percentage of time to be allocated to this project and identify the resources used to fund the remainder of the individual's salary.

E. Categorical Budget and Budget Justification (10 points).

This section should provide a clear estimate of the project program costs and justification for expenses for the entire grant period. The budget and budget justification should be consistent with the tasks identified in the workplan.

(1) Categorical budget (Form SF 424A, Budget Information Non-Construction Programs) completing each of the budget periods requested.

(2) Narrative justification for all costs, explaining why each line item is necessary or relevant to the proposed project. Include sufficient details to facilitate the determination of cost allowability.

(3) Indication of any special start-up costs.

(4) Budget justification should include a brief program narrative for the second year.

(5) If indirect costs are claimed, indicate and apply the current negotiated rate to the budget. Include a copy of the rate agreement in the appendix.

2. Review and Selection Process

In addition to the above criteria/requirements, applications are considered according to the following:

A. Letter of Intent Submission deadline: May 12, 2006.

B. Application Submission deadline: June 5, 2006. Applications submitted in advance of or by the deadline and verified by the postmark will undergo a preliminary review to determine that:

(1) The applicant and proposed project type is eligible in accordance with this grant announcement.

(2) The application is not a duplication of a previously funded project.

(3) The application narrative, forms, and materials submitted meet the requirements of the announcement allowing the review panel to undertake an in-depth evaluation; otherwise, it may be returned.

C. Competitive Review of Eligible Applications Objective Review: June 19-30, 2006.

Applications meeting eligibility requirements that are complete, responsive, and conform to this program announcement will be reviewed for merit by the Ad Hoc Objective Review Committee (ORC) appointed by the IHS to review and make recommendations on these applications. Prior to ORC review, the applications will be screened to determine that services and programs proposed are those which the IHS has the authority to provide, either directly or through funding agreement, and that those services and programs are designed for the benefit of IHS beneficiaries. Applications not meeting these requirements will not be reviewed. The ORC review will be conducted in accordance with the IHS Objective Review Guidelines. The technical review process ensures selection of quality projects in a national competition for limited funding. Applications will be evaluated and rated on the basis of the evaluation criteria listed in Section V.1. and V.2. The criteria are used to evaluate the quality of a proposed project, determine the likelihood of success, and assign a numerical score to each application. The scoring of approved applications will assist the IHS in determining which proposals will be funded if the amount of funding is not sufficient to support all approved applications. Applications recommended for approval, having a score of 60 or above by the ORC and scored high enough to be considered for funding, are ranked. Additional considerations in final ranking include: geographic diversity among funded programs, diversity in population size among Tribes and communities served by funded programs, and unique features with regard to type of program planned or population served. Applications scoring below 60 points will be disapproved and returned to the applicant. Applications that are approved but not funded will not be carried over into the next cycle for funding consideration.

3. Anticipated Announcement and Award Dates

Anticipated announcement date: July 10-14, 2006.

Award date: August 1, 2006.

VI. Award Administration Information

1. Award Notices

Federal Assistance Award (FAA) will be initiated by the Division of Grants Operations and will notify the contact person identified on each proposal of the results in writing via postal mail. Applicants whose applications are declared ineligible will receive written notification of the ineligibility determination and their original grant application via postal mail. The ineligible notification will include information regarding the rationale for the ineligible decision citing specific information from the original grant application. Applicants who are approved but unfunded and disapproved will receive a copy of the Executive Summary which identifies the weaknesses and strengths of the application submitted. Applicants which are approved and funded will be notified through the official FAA document. The FAA will serve as the official notification of a grant award and will state the amount of Federal funds awarded, the purpose of the grant, the terms and conditions of the grant award, the effective date of the award, the project period, and the budget period. Any other correspondence announcing to the Applicant's Project Director that an application was recommended for approval is not an authorization to begin performance. Pre-award costs are not allowable pending prior approval from the awarding agency.

2. Administrative and National Policy Requirements Grants Are Administered in Accordance With the Following Documents:

A. This cooperative agreement.

B. 45 CFR part 92, “Uniform Administrative Requirements for Grants and Cooperative Agreements to State, Local, and Tribal Governments”, or 45 CFR part 74, “Uniform Administration Requirements for Awards and Subawards to Institutions of Higher Education, Hospitals, Other NonProfit Organizations, and Commercial Organizations”.

C. Public Health Service Grants Policy Statement.

D. Appropriate Cost Principles: OMB Circular A-87, “State, Local, and Indian Tribal Governments,” or OMB Circular A-122, “NonProfit Organizations”.

E. OMB Circular A-133, “Audits of States, Local Governments, and NonProfit Organizations”.

F. Other Applicable OMB circulars.

3. Reporting

A. Program progress reports are required within 30 days of the completion of the semi-annual report (commencing with the award date). These reports will include a brief comparison of actual accomplishments to the goals established for the period, reasons for slippage (if applicable), and other pertinent information as required. A final report must be submitted within 90 days of expiration of the budget/project period (at the end of each year of funding).

B. Financial Status Reports must be submitted within 30 days of the semi-annual report (commencing with the award date). Final financial status reports are due within 90 days of expiration of the budget/project period (at the end of each year of funding). Standard Form 269 (long form) will be used for financial reporting.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

VII. Agency Contact(s)

For program-related information regarding the IHS Elder Care Initiative: Bruce Finke, MD, Nashville Area Elder Health Consultant, 45 Vernon Street, Northampton, MA 01060. (413) 584-0790. bruce.finke@ihs.gov.

For general information regarding this announcement: Ms. Orie Platero, Office of Clinical and Preventive Services (OCPS), Indian Health Service, 801 Thompson Avenue, Suite 326, Rockville, Maryland 20852. (301) 443-2522.

For specific grant-related and business management information: Ms. Martha Redhouse, Division of Grants Operations, Indian Health Service, 801 Thompson Avenue, TMP Suite 360, Rockville, Maryland 20852. (301) 443-5204.

VIII. Other Information

The Department of Health and Human Services (HHS) is committed to achieving the health promotion and disease prevention objectives of Healthy People 2010, a HHS led activity for setting priority areas. This project will aid the accomplishment of Healthy People 2010 Focus Area 1—Access. Specifically, it will aid the accomplishment of objective 1-15, “Increase the proportion of persons with long-term care needs who have access to the continuum of long-term care services.” Potential applicants may obtain a printed copy of Healthy People 2010, (Summary Report No, 017-001-00549-5) or CD-ROM, Stock No. 017-001-00549-5, through the Superintendent of Documents, Government Printing Office, P.O. Box 371954, Pittsburgh, PA 15250-7945, (202) 512-1800. You may also access this information at the following Web site: http://www.healthypeople.gov/Publications.

The IHS is focusing efforts on three Health Initiatives that, linked together, have the potential to achieve positive improvements in the health of American Indian and Alaska Native people. These three initiatives are Health Promotion/Disease Prevention, Management of Chronic Disease, and Behavioral Health. Further information is available at the Health Initiatives Web site: http://www.ihs.gov/NonMedicalPrograms/DirInitiatives/index.cfm.

Dated: April 10, 2006.
Robert G. McSwain,
Deputy Director, Indian Health Service.

[FR Doc. E6-5608 Filed 4-14-06; 8:45 am]

BILLING CODE 4165-16-P